DEPARTMENT OF THE INTERIOR

Bureau of Land Management

[AZ-210-5410-FR-A508; AZA-33808]

Notice of Realty Action: Application for Conveyance of Federal Mineral Interests, Pima County, AZ

AGENCY: Bureau of Land Management, Interior.

ACTION: Notice of realty action.

SUMMARY: The surface owner of the land described in this notice, aggregating approximately 260 acres, has filed an application for the purchase of the Federally-owned mineral interests. Publication of this notice temporarily segregates the mineral interest from appropriation under the public land laws, including the mining laws.

DATES: Interested persons may submit written comments to the Bureau of Land Management (BLM) at the address stated below. Comments must be received no later than October 4, 2007.

ADDRESS: Bureau of Land Management, Phoenix District, 21605 North 7th Avenue, Phoenix, Arizona 85027. Detailed information concerning this action is available for review at the above address.

FOR FURTHER INFORMATION CONTACT: Matthew Magaletti, Lands and Realty Specialist, at the above address, or at 623-580-5590.

SUPPLEMENTARY INFORMATION: The surface owner of the following described land has filed an application pursuant to Section 209 of the Federal Land Policy and Management Act of 1976, 43 U.S.C. 1719(b), for the purchase and conveyance of the Federally-owned mineral interest in the following described land:

Gila and Salt River Meridian

T. 4 N., R. 2 E.

Sec. 10, SE¼;

Sec. 11, NW¼SW¼, SW¼NE¼SW¼, and E½NE¼SW¼;

Sec. 14, E½NE¼NW¼ and NE¼NW¼SW¼.

The area described contains 260 more or less, in Pima County.

Effective immediately, BLM will process the pending application in accordance with the regulations stated in 43 CFR Part 2720. Written comments concerning the application must be received no later than the date specified above in this notice for that purpose. The purpose for a purchase and conveyance is to allow consolidation of surface and subsurface minerals ownership where (1) There are no known mineral values, or (2) in those instances where the Federal mineral interest reservation interferes with or precludes appropriate nonmineral development and such development is a more beneficial use of the land than the mineral development.

On August 20, 2007 the mineral interests owned by the United States in the above described lands will be segregated to the extent that they will not be subject to appropriation under the public land laws, including the mining laws. The segregative effect shall terminate upon issuance of a patent or deed of such mineral interest; upon final rejection of the mineral conveyance application; or August 19, 2009 whichever occurs first.

Comments: Comments, including names, street addresses, and other contact information of respondents, will be available for public review. Before including your address, telephone number, e-mail address, or other personal identifying information in your comment, you should be aware that your entire comment—including your personal identifying information—may be made publicly available at any time. While you can ask us in your comment to withhold your personal identifying information from public review, we cannot guarantee that we will be able to do so. All persons who wish to present comments, suggestions, or objections in connection with the pending application may do so by writing to Teresa A. Raml, Phoenix District Manager, at the above mentioned address.

(Authority: 43 CFR 2720.1-1(b))

Teresa A. Raml,
Phoenix District Manager.

[FR Doc. E7-16346 Filed 8-17-07; 8:45 am]

BILLING CODE 4310-32-P